DEPARTMENT OF LABOR

Employment and Training Administration Submission for OMB Emergency Review: Revision of OMB Control No. 1205-0342, Petition and Investigative Forms To Assess Group Eligibility for Trade Adjustment Assistance, Comment Request

April 24, 2009.

The Department of Labor (DOL) has submitted the following information collection request (ICR), utilizing the Paperwork Reduction Act (PRA) emergency review procedures, to the Office of Management and Budget (OMB) for review and clearance in accordance with the Paperwork Reduction Act of 1995 (Pub. L. 104-13, 44 U.S.C. Chapter 35) and 5 CFR 1320.13. OMB approval is requested by May 6, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), E-mail: OIRA_submission@omb.eop.gov. Comments and questions about the ICR listed below should be received by no later than the requested OMB approval date. An additional opportunity to comment on this ICR will also be provided when DOL seeks approval under standard PRA clearance procedures.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration.

Title of Collection: Investigative Data Collection Requirements for the Trade Act of 1974 as amended by the Trade and Globalization Adjustment Assistance Act of 2009.

OMB Control Number: 1205-0342.

Affected Public: Individuals or Households; Businesses or other for-profits; and State, Local or Tribal Governments.

Total Estimated Annual Burden Hours: 18,642.

Total Estimated Annual Costs Burden (excluding hourly wage costs: $0.

Description: On February 17, 2009, the President signed into law the American Recovery and Reinvestment Act (ARRA). Section 221 (a) of Title II, Chapter 2 of the Trade Act of 1974, as amended by ARRA (19 U.S.C. 2271), authorizes the Secretary of Labor and the Governor of each State to accept petitions for certification of eligibility to apply for adjustment assistance. ARRA amended Section 222 of the Trade Act of 1974 to provide for new eligibility criteria designed to expand the number of petitioning worker groups assessed as adversely affected by trade and therefore determined eligible to apply for Trade Adjustment Assistance. To solicit the data needed to address the new eligibility criteria, ETA is significantly expanding the petition and investigation forms currently approved under OMB No. 1205-0342.

The Forms ETA-9042 Petition for Trade Adjustment Assistance and its Spanish translation, and ETA-9042a Solicitud De Asistencia Para Ajuste, establish a format that may be used for filing such petitions. The Department's regulations regarding petitions for worker adjustment assistance may be found at 29 CFR 90. Investigative forms designed to assess eligibility are undertaken in accordance with §§ 222, 223 and 249 of the Trade Act of 1974, as amended (19 U.S.C., 2272 and 2273), are used by the Secretary of Labor to certify groups of workers as eligible to apply for worker trade adjustment assistance. The Forms include: ETA-9043a—Business Confidential Data Request Firms that Produce an Article (CDR-A); ETA-9043b—Business Confidential Data Request Firms that Supply a Service (CDR-S); ETA-9043c—Business Confidential Data Request Firms Who Work on a Contractual Basis; ETA-8562a—Business Confidential Customer Survey; ETA-8562a—Business Confidential Customer Survey; ETA-8562a—Business Confidential Customer Survey First Tier Purchases of Articles; ETA-8562a-1—Business Confidential Customer Survey Second Tier Purchases of Articles; ETA-8562b—Business Confidential Customer Survey Services; ETA-8562c—Business Confidential Customer Survey Firms who Work on a Contractual Basis; ETA-8562d—Business Confidential Customer Survey; and ETA-9118—Business Confidential Information Request.

Why are we requesting Emergency Processing? This collection is submitted on an emergency clearance basis because ARRA (Section 1891) mandates the implementation of the new criteria listed in Section 222 of the Trade Act (19 U.S.C. 2271, 2272, 2273 et seq.), as amended, by May 18, 2009.

Darrin A. King,
Departmental Clearance Officer.

[FR Doc. E9-9745 Filed 4-28-09; 8:45 am]

BILLING CODE 4510-FN-P